LIBRARY OF CONGRESS

Copyright Royalty Board

[Consolidated Docket No. 16-CRB-0009 CD (2014-17)]

Distribution of Cable Royalty Funds

AGENCY: Copyright Royalty Board, Library of Congress.

ACTION: Notice announcing commencement of distribution proceeding with request for Petitions to Participate.

SUMMARY: The Copyright Royalty Judges (Judges) announce commencement of a proceeding to determine distribution of 2014, 2015, 2016, and 2017 royalties deposited with the Copyright Office under the statutory license for secondary transmissions by cable systems. The Judges also set the date by which all parties wishing to participate and share in the distribution of cable retransmission royalties for the years 2014 through 2017 must file a Petition to Participate and the accompanying $150 filing fee, if applicable. The Judges seek a single Petition to Participate from any entity intending to participate in the Allocation Phase or the Distribution Phase of this proceeding, or both Phases. ANY PARTY THAT FILED A PETITION TO PARTICIPATE IN ANY OF THE PROCEEDINGS CONSOLIDATED IN THIS PROCEEDING MUST NONETHELESS FILE A PETITION TO PARTICIPATE IN THIS CONSOLIDATED PROCEEDING. ANY PARTY THAT FAILS TO FILE A PETITION TO PARTICIPATE IN THIS CONSOLIDATED PROCEEDING BY THE TIME SET IN THIS NOTICE SHALL NOT BE A PARTICIPANT AT ANY STAGE OF THIS CONSOLIDATED PROCEEDING.

DATES: Petitions to Participate and the filing fee, if applicable, are due on or before March 11, 2019.

ADDRESSES: Interested claimants must submit petitions to participate and the filing fee, if applicable. Each petition to participate must identify the proceeding by docket number 16-CRB-0009 CD (2014-17). Participants must file using the CRB's electronic filing application, eCRB, at https://app.crb.gov/. Claimants without access to the internet may file using any of the following methods:

U.S. mail: Copyright Royalty Board, P.O. Box 70977, Washington, DC 20024-0977; or

Overnight service (only USPS Express Mail is acceptable): Copyright Royalty Board, P.O. Box 70977, Washington, DC 20024-0977; or

Commercial courier: Address package to: Copyright Royalty Board, Library of Congress, James Madison Memorial Building, LM-403, 101 Independence Avenue SE, Washington, DC 20559-6000. Deliver to: Congressional Courier Acceptance Site, 2nd Street NE and D Street NE, Washington, DC; or

Hand delivery: Library of Congress, James Madison Memorial Building, LM-401, 101 Independence Avenue SE, Washington, DC 20559-6000.

Instructions: Unless submitting online, claimants must submit an original, two paper copies, and an electronic version on a CD. All submissions must include the Copyright Royalty Board name and docket number. All submissions received will be posted without change on eCRB including any personal information provided.

Docket: For access to the docket to read background documents, go to eCRB, the Copyright Royalty Board's electronic filing and case management system, at https://app.crb.gov/ and search for docket number 16-CRB-0009 CD (2014-17). To access documents not yet uploaded to eCRB (because it is a new system), go to the agency website at https://www.crb.gov/ or contact the CRB Program Specialist.

FOR FURTHER INFORMATION CONTACT: Anita Blaine, CRB Program Specialist, by telephone at (202) 707-7658 or email at crb@loc.gov.

SUPPLEMENTARY INFORMATION:

Background

Twice each year, cable system operators must deposit with the Copyright Office royalties payable for the privilege of retransmitting by cable over-the-air television and radio broadcast signals. 17 U.S.C. 111. The Judges oversee distribution of the royalties to copyright owners whose works are included in the retransmissions and who have filed a timely claim for royalties. This notice announces the commencement of a proceeding under 17 U.S.C. 803(b)(1) for distribution of cable royalties deposited for transmissions made in 2014, 2015, 2016, and 2017.

ANY PARTY WISHING TO RECEIVE ROYALTIES PAYABLE FOR 2014 THROUGH 2017 MUST FILE A PETITION TO PARTICIPATE AT THIS TIME. THE JUDGES SHALL DEEM ANY PETITION TO PARTICIPATE FILED PURSUANT TO THIS NOTICE AS A PETITION TO PARTICIPATE IN BOTH THE ALLOCATION PHASE AND THE DISTRIBUTION PHASE OF THIS PROCEEDING. IN ORDER TO PARTICIPATE IN THE DISTRIBUTION PHASE, ALL PETITIONERS MUST PARTICIPATE FULLY AND IN GOOD FAITH IN THE ALLOCATION PHASE. IF AN INTERESTED PARTY FAILS TO FILE A PETITION TO PARTICIPATE IN RESPONSE TO THIS NOTICE, THAT PARTY SHALL NOT BE ELIGIBLE FOR DISTRIBUTION OF ROYALTY FUNDS FOR 2014 THROUGH 2017. ANY PARTY THAT FILED A PETITION TO PARTICIPATE IN ANY OF THE PROCEEDINGS CONSOLIDATED IN THIS PROCEEDING MUST NONETHELESS FILE A PETITION TO PARTICIPATE IN THIS CONSOLIDATED PROCEEDING.

The Judges will resolve all issues relating to distribution of cable royalty funds for 2014 through 2017 in this proceeding, Docket No. 16-CRB-0009 CD (2014-17). See 37 CFR 351.1(b)(2)

Commencement of Distribution Proceeding

As required by 17 U.S.C. 804(b)(8), the Judges gave notice of their intention to commence this consolidated proceeding in order to determine whether a controversy exists. See 83 FR 56106 (Nov. 9, 2018). The Judges received responses from 12 entities representing claimants to the royalty funds at issue. The responsive comments establish that controversies exist with respect to distribution of royalties in each year's fund. The Judges, therefore, commence this proceeding to determine appropriate allocation of the royalty funds among claimant groups and ultimate distribution of royalties to eligible claimants.

Petitions To Participate

Parties filing Petitions to Participate must comply with the requirements of § 351.1(b) of the Judges' regulations. In addition, each Petition to Participate must identify for each claim year, the name of each claimant, the corresponding claim number, an indication of whether the claim is an individual or joint claim, and the program category into which the claim may fall.

Any claimant whose claim does not exceed $1,000 in value and who includes a statement in its Petition to Participate that the claimant will not seek distribution of more than $1,000 may file the Petition to Participate without payment of the filing fee. 37 CFR 351.1(b)(4).

How To Submit Petitions To Participate

Interested parties with claims exceeding $1,000 must submit a filing fee of $150 with their Petition to Participate, or the Judges will reject the petition. THE COPYRIGHT ROYALTY BOARD WILL NOT ACCEPT CASH.

Parties filing online through eCRB must pay the filing fee, if applicable, by credit card using the payment portal on eCRB. Any party without access to the internet must pay the filing fee by check or money order made payable to the “Copyright Royalty Board” and mailed or delivered with its filed paper documents and CD as described in the Addresses section above. If a check is returned for lack of sufficient funds, the Judges will dismiss the corresponding Petition to Participate.

Any participant that is an individual may represent herself or himself; all other participants must be represented by counsel. In accordance with 37 CFR 350.2, only attorneys who are members of the bar in one or more states or the District of Columbia and in good standing will be allowed to represent parties before the Copyright Royalty Judges. The Judges will address further procedural matters, including scheduling, after receiving Petitions to Participate.

Dated: January 3, 2019.
Suzanne M. Barnett,
Chief Copyright Royalty Judge.

[FR Doc. 2019-01571 Filed 2-7-19; 8:45 am]

BILLING CODE 1410-72-P